DEPARTMENT OF LABOR

Veterans' Employment and Training Service

Final Notice of Submission for OMB Review; Comment Request

SUMMARY: The Department of Labor, Veterans' Employment and Training Service (VETS) gives notice that it has submitted the information collection request (ICR) described below to the Office of Management and Budget (OMB) for review and clearance in accordance with the Paperwork Reduction Act of 1995. A copy of this ICR, with applicable supporting documentation, including, among other things, a description of the likely respondents, proposed frequency of response, and estimated total burden may be obtained from the RegInfo.gov Web site at http://www.reginfo.gov/public/do/PRAMain or by contacting Linda Watts Thomas on 202-693-4223 (this is not a toll-free number) and e-mail to: DOL_PRA_PUBLIC@dol.gov.

Interested parties are encouraged to send written comments to the Office of Information and Regulatory Affairs, Attn: OMB Desk Officer for the Department of Labor—Veterans' Employment and Training Service (VETS), Office of Management and Budget, Room 10235, Washington, DC 20503, Telephone: 202-395-7316/Fax 202-395-5806 (these are not toll-free numbers), E-mail: OIRA_submission@omb.eop.gov within 30 days from the date of this publication in the Federal Register. In order to ensure the appropriate consideration, comments should reference the OMB Control Number (see below).

The OMB is particularly interested in comments which:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Agency: Veterans' Employment and Training Service.

Type of Review: Revision of currently approved collection.

Title of Collection: VETS/USERRA/VP Form 1010 (VETS-1010 Form).

OMB Control Number: 1293-0002.

Agency Form Number: VETS-1010.

Affected Public: Individuals or Households.

Total Estimated Number of Respondents: 2,500.

Total Estimated Annual Burden Hours: 1,250.

Total Estimated Annual Costs Burden: $0.

Description: Title 38 United States Code, Section 4322 of USERRA authorizes the Secretary of Labor (through the Veterans' Employment and Training Service) to investigate claims by individuals who believe their USERRA rights have been violated. Section 3 of the VEOA provides the Secretary of Labor similar authority to investigate complaints brought by preference eligibles. The collection instrument completed by claimants contains much of the information needed for the Department to determine initial eligibility of the claimant.

The information on the VETS/USERRA/VP Form 1010 (VETS-1010 Form) is used by the Veterans' Employment and Training Service (VETS) to determine eligibility and serves as an official notification that the claimant requested assistance in obtaining rights under VP or USERRA. Detailed items on the form describe the employment relationship with the employer involved in the claim. The information collected is essential to VETS in meeting its statutory mandate. For additional information, see related notice published in the Federal Register on March 9, 2010 (75 FR 10821).

Dated: June 25, 2010.
Linda Watts Thomas,
Acting Departmental Clearance Officer.

[FR Doc. 2010-15972 Filed 6-30-10; 8:45 am]

BILLING CODE 4510-79-P